DEPARTMENT OF AGRICULTURE

Food and Nutrition Service

Agency Information Collection Activities: Proposed Collection; Comment Request—Supplemental Nutrition Assistance Program: Federal Collection of State Plan of Operations, Operating Guidelines and Forms

AGENCY: Food and Nutrition Service, USDA.

ACTION: Notice.

SUMMARY: In accordance with the Paperwork Reduction Act of 1995, this notice invites the general public and other public agencies to comment on this proposed information collection. This collection is a revision of a collection currently approved for State Agency Supplemental Nutrition Assistance Program (SNAP), formerly the Food Stamp Program, administrative matters.

DATES: Comments on this notice must be received by April 26, 2010, to be assured of consideration.

ADDRESSES: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

Send comments and requests for copies of this information collection to Jane Duffield, Chief, State Administration Branch, Supplemental Nutrition Assistance Program, Food and Nutrition Service, USDA, 3101 Park Center Drive, Room 818, Alexandria, VA 22302. Comments may also be submitted via fax to the attention of Ms. Duffield at 703-605-0795 or via e-mail to PADMAILBOX@fns.usda.gov. Comments will also be accepted through the federal eRulemaking Portal. Go to http://www.regulations.gov and follow the online instructions for submitting comments electronically.

All written comments will be open for public inspection at the office of the Food and Nutrition Service during regular business hours (8:30 a.m. to 5 p.m. Monday through Friday) at 3101 Park Center Drive, Room 818, Alexandria, Virginia 22302.

All comments will be summarized and included in the request for Office of Management and Budget approval. All comments will become a matter of public record.

FOR FURTHER INFORMATION CONTACT: Requests for additional information or copies of this information collection should be directed to Jane Duffield at (703) 605-4385.

SUPPLEMENTARY INFORMATION: Title: Operating Guidelines, Forms and Waivers.

OMB Number: 0584-0083.

Expiration Date: October 31, 2010.

Type of Request: Revision of a currently approved collection.

Abstract: In accordance with section 11(d) of the Food & Nutrition Act of 2008 (the Act), 7 U.S.C. 2020(B), State agencies are required to submit a Plan of Operation specifying the manner in which SNAP will be conducted. The State Plan of Operations, in accordance with current rules at 7 CFR 272.2, consists of a Federal/State Agreement, annual budget and activity statements, and specific attachments relating to the State Plan of Operation. State Plans of Operation are a one-time effort with updates that are provided as necessary.

Under section 16 of the Act, 7 U.S.C. 2025, the Secretary is authorized to pay each State agency an amount equal to 50 percent of all administrative costs involved in each State agency's operation of the SNAP. Under corresponding SNAP regulations at 7 CFR 272.2, the State agencies must submit annually to FNS for approval, a Budget Projection Statement (Form FNS-366A), which projects the total costs for major areas of SNAP operations, and a Program Activity Statement (Form FNS-366B), which provides a summary of SNAP operations during the preceding fiscal year. The reports are required to substantiate the costs the State agency expects to incur during the next fiscal year. Form FNS-366A is submitted annually by August 15, for the upcoming fiscal year and Form FNS-366B must be submitted no later than 45 days after the end of each State agency's fiscal year.

In fiscal year (FY) 2009, 91 percent of State agencies submitted the FNS-366A electronically and 9 percent submitted a paper report. For FY 2009, a total of 82 percent of State agencies submitted the FNS-366B electronically with the remaining 18 percent submitting paper reports.

Finally, State agencies are required to submit certain other documents to FNS for review relating to certain specific activities that the State agency may choose to do. These other submissions include but are not limited to Advance Planning Documents (APD) if the State agency wishes to acquire proposed automated data processing (ADP) services, systems or equipment; outreach plans if the State elects to do program information activities; and updates related to options exercised under the Act, as amended.

Respondents: State agencies that administer SNAP.

Number of Respondents: 53.

Estimated Number of Responses Per Respondent:

Plan of Operation Updates: 53 State agencies once a year.

Form FNS-366A: 53 State agencies once a year.

Form FNS-366B: 53 State agencies once a year.

Other APD, Plan, or Update Submissions: Up to 53 State agencies may submit one or more APD, plan or update submission averaging 4.75 submissions per respondent per year or 252 total responses.

Estimate of Burden:

Plan of Operation Updates: The State agencies submit Plan updates at an estimate of 10 hours per respondent, or 530 total hours.

Form FNS-366A: The State agencies submit Form FNS-366A at an estimate of 13 hours per respondent, or 689 total hours.

Form FNS-366B: The total burden for the collection of information for Form FNS-366B is 18 hours per respondent, or 954 hours.

Other APD, Plan, or Update Submissions: We estimate that up to 53 States may submit one or more APD, plan, or update for a total of 251.75 annual responses at an average estimate of 2.681 hours per respondent, or 675.5 hours.

Estimated Total Annual Burden on Respondents: The total annual reporting and recordkeeping burden for OMB No. 0584-0083 is estimated to be 2,848.5 hours, which is the same as the currently approved burden.

Affected public | Forms | Number of respondents | Frequency of response | Total annual responses | Time per response (hrs) | Annual burden hours
State Agencies | FNS-366A | 53 | 1 | 53 | 13 | 689
| FNS-366B | 53 | 1 | 53 | 18 | 954
| Plan of Operation | 53 | 1 | 53 | 10 | 530
| Other APD Plan or Update | 53 | 4.75 | 251.75 | 2.681 | 675.5
Total Burden Estimates |  | 53 |  |  |  | 2848.5

Dated: February 4, 2010.
Julia Paradis,
Administrator, Food and Nutrition Service.

[FR Doc. 2010-3448 Filed 2-22-10; 8:45 am]

BILLING CODE 3410-30-P